POSTAL RATE COMMISSION

Printing Plant Tour

AGENCY: Postal Rate Commission.

ACTION: Notice of commission visit.

SUMMARY: Postal Rate Commission members and staff will tour the Martinsburg, WV, printing facility of Quebecor World Inc. on Monday, June 18, 2001.

DATES: The tour is scheduled for Monday, June 18, 2001, beginning at 11 a.m.

FOR FURTHER INFORMATION CONTACT: Stephen L. Sharfman, General Counsel, Postal Rate Commission, Suite 300, 1333 H Street NW., Washington, DC 20268-0001, 202-789-6820.

Dated: June 13, 2001.
Steven W. Williams,
Acting Secretary.

[FR Doc. 01-15318 Filed 6-15-01; 8:45 am]

BILLING CODE 7710-FW-M